COUNCIL OF THE INSPECTORS GENERAL ON INTEGRITY AND EFFICIENCY

Senior Executive Service Performance Review Board Membership

AGENCY: Council of the Inspectors General on Integrity and Efficiency.

ACTION: Notice.

SUMMARY: This notice sets forth the names and titles of the current membership of the Council of the Inspectors General on Integrity and Efficiency (CIGIE) Performance Review Board as of October 1, 2015.

DATES: Effective Date: October 1, 2015.

FOR FURTHER INFORMATION CONTACT: Individual Offices of Inspectors General at the telephone numbers listed below.

SUPPLEMENTARY INFORMATION:

I. Background

The Inspector General Act of 1978, as amended, created the Offices of Inspectors General as independent and objective units to conduct and supervise audits and investigations relating to Federal programs and operations. The Inspector General Reform Act of 2008, established the Council of the Inspectors General on Integrity and Efficiency (CIGIE) to address integrity, economy, and effectiveness issues that transcend individual Government agencies; and increase the professionalism and effectiveness of personnel by developing policies, standards, and approaches to aid in the establishment of a well-trained and highly skilled workforce in the Offices of Inspectors General. The CIGIE is an interagency council whose executive chair is the Deputy Director for Management, Office of Management and Budget, and is comprised principally of the 72 Inspectors General (IGs).

II. CIGIE Performance Review Board

Under 5 U.S.C. 4314(c)(1)-(5), and in accordance with regulations prescribed by the Office of Personnel Management, each agency is required to establish one or more Senior Executive Service (SES) performance review boards. The purpose of these boards is to review and evaluate the initial appraisal of a senior executive's performance by the supervisor, along with any recommendations to the appointing authority relative to the performance of the senior executive. The current members of the Council of the Inspectors General on Integrity and Efficiency Performance Review Board, as of October 1, 2015, are as follows:

Agency for International Development

Phone Number: (202) 712-1150

CIGIE Liaison—Justin Brown (202) 712-1150

Lisa Risley—Assistant Inspector General for Investigations

Melinda Dempsey—Deputy Assistant Inspector General for Audit

Lisa McClennon—Deputy Assistant Inspector General for Investigations

Alvin A. Brown—Deputy Assistant Inspector General for Audit

Lisa Goldfluss—Legal Counsel to the Inspector General

Robert Ross—Assistant Inspector General for Management

Department of Agriculture

Phone Number: (202) 720-8001

CIGIE Liaison—Dina J. Barbour (202) 720-8001

David R. Gray—Deputy Inspector General

Christy A. Slamowitz—Counsel to the Inspector General

Gilroy Harden—Assistant Inspector General for Audit

Rodney G. DeSmet—Deputy Assistant Inspector General for Audit

Steven H. Ricicrode, Jr.—Deputy Assistant Inspector General for Audit

Ann M. Coffey—Assistant Inspector General for Investigations

Lane M. Timm—Assistant Inspector General for Management

Department of Commerce

Phone Number: (202) 482-4661

CIGIE Liaison—Clark Reid (202) 482-4661

Andrew Katsaros—Principle Assistant Inspector General for Audit and Evaluation

Allen Crawley—Assistant Inspector General for Systems Acquisition and IT Security

Ann Eilers—Assistant Inspector General for Administration

Department of Defense

Phone Number: (703) 604-8324

CIGIE Liaison—David Gross (703) 604-8324

Daniel R. Blair—Deputy Chief of Staff

James B. Burch—Deputy Inspector General for Investigations

Michael S. Child, Sr.—Deputy Inspector General for Overseas Contingency Operations

Carol N. Gorman—Assistant Inspector General for Readiness and Cyber Operations

Carolyn R. Hantz—Assistant Inspector General for Audit Policy and Oversight

Amy J. Frontz—Principal Assistant Inspector General for Auditing

Marguerite C. Garrison—Deputy Inspector General for Administrative Investigations

Glenn A. Fine—Principal Deputy Inspector General

Kenneth P. Moorefield—Deputy Inspector General for Special Plans and Operations

Dermot F. O'Reilly—Assistant Inspector General for International Operations

Michael J. Roark—Assistant Inspector General for Contract Management and Payment

Henry C. Shelley, Jr.—General Counsel

Randolph R. Stone—Deputy Inspector General for Policy and Oversight

Anthony C. Thomas—Deputy Inspector General for Intelligence and Special Program Assessments

Ross W. Weiland—Assistant Inspector General for Investigations, Internal Operations

Jacqueline L. Wicecarver—Assistant Inspector General for Acquisition, Parts, and Inventory

Lorin T. Venable—Assistant Inspector General for Financial Management and Reporting

Department of Education

Phone Number: (202) 245-6900

CIGIE Liaison—Janet Harmon (202) 245-6076

Wanda Scott—Assistant Inspector General for Management Services

Patrick Howard—Assistant Inspector General for Audit

Bryon Gordon—Deputy Assistant Inspector General for Audit

Aaron Jordan—Assistant Inspector General for Investigations

Charles Coe—Assistant Inspector General for Information Technology Audits and Computer Crime Investigations

Marta Erceg—Counsel to the Inspector General

Department of Energy

Phone Number: (202) 586-4393

CIGIE Liaison—Tara Porter (202) 586-5798

John Hartman—Deputy Inspector General for Investigations

Rickey Hass—Deputy Inspector General for Audits and Inspections

Daniel Weeber—Assistant Inspector General for Audits and Administration

April Stephenson—Assistant Inspector General for Inspections

John Dupuy—Assistant Inspector General for Investigations

Tara Porter—Assistant Inspector General for Management and Administration

Virginia Grebasch—Counsel to the Inspector General

David Sedillo—Director of Audits Western Region

Jack Rouch—Director of Audits Central Region

Debra Solmonson—Director of Audits Eastern Region

Environmental Protection Agency

CIGIE Liaison—Jennifer Kaplan (202) 566-0918

Charles Sheehan—Deputy Inspector General

Aracely Nunez-Mattocks—Chief of Staff to the Inspector General

Patrick Sullivan—Assistant Inspector General for Investigations

Carolyn Copper—Assistant Inspector General for Program Evaluation

Alan Larsen—Counsel to the Inspector General and Assistant Inspector General for Congressional and Public Affairs

Kevin Christensen—Assistant Inspector General for Audits

Federal Labor Relations Authority

Phone Number: (202) 218-7744

CIGIE Liaison—Dana Rooney (202) 218-7744

Dana Rooney—Inspector General

Federal Maritime Commission

Phone Number: (202) 523-5863

CIGIE Liaison—Jon Hatfield (202) 523-5863

Jon Hatfield—Inspector General

Federal Trade Commission

Phone Number: (202) 326-3295

CIGIE Liaison—Roslyn A. Mazer (202) 326-3295

Roslyn A. Mazer—Inspector General

General Services Administration

Phone Number: (202) 501-0450

CIGIE Liaison—Sarah S. Breen (202) 219-1351

Robert C. Erickson—Deputy Inspector General

Richard P. Levi—Counsel to the Inspector General

Theodore R. Stehney—Assistant Inspector General for Auditing

Nick Goco—Principal Deputy Assistant Inspector General for Auditing

James P. Hayes—Deputy Assistant Inspector General for Acquisition Programs Audits

Lee Quintyne—Assistant Inspector General for Investigations

Stephanie E. Burgoyne—Assistant Inspector General for Administration

Larry L. Gregg—Associate Inspector General

Department of Health and Human Services

Phone Number: (202) 619-3148

CIGIE Liaison—Elise Stein (202) 619-2686

Joanne Chiedi—Principal Deputy Inspector General

Robert Owens, Jr.—Deputy Inspector General for Management and Policy

Caryl Brzymialkiewicz—Assistant Inspector General/Chief Data Officer

Gary Cantrell—Deputy Inspector General for Investigations

Les Hollie—Assistant Inspector General for Investigations

Tyler Smith—Assistant Inspector General for Investigations

Suzanne Murrin—Deputy Inspector General for Evaluation and Inspections

Ann Maxwell—Assistant Inspector General for Evaluation and Inspections

Gregory Demske—Chief Counsel to the Inspector General

Robert DeConti—Assistant Inspector General for Legal Affairs

Gloria Jarmon—Deputy Inspector General for Audit Services

Brian Ritchie—Assistant Inspector General for Audit Services

Thomas Salmon—Assistant Inspector General for Audit Services

Department of Homeland Security

Phone Number: (202) 254-4100

CIGIE Liaison—Erica Paulson (202) 254-0938

Laurel Rimon—Counsel to the Inspector General

Louise M. McGlathery—Assistant Inspector General for Management

Andrew Oosterbaan—Assistant Inspector General for Investigations

John E. McCoy II—Assistant Inspector General for Integrity and Quality Oversight

John Kelly—Assistant Inspector General for Emergency Management Oversight

Mark Bell—Assistant Inspector General for Audits

Anne L. Richards—Assistant Inspector General for Inspections

Sondra McCauley—Assistant Inspector General for Information Technology Audits

Doris A. Wojnarowski—Deputy Assistant Inspector General for Management

James P. Gaughran—Deputy Assistant Inspector General for Emergency Management Oversight

Wayne H. Salzgaber—Senior Advisor

Department of Housing and Urban Development

Phone Number: (202) 708-0430

CIGIE Liaison—Holley Miller (202) 402-2741

Joe Clarke—Assistant Inspector General for Investigations

Nicholas Padilla—Deputy Assistant Inspector General for Investigations

Randy McGinnis—Assistant Inspector General for Audit

Frank Rokosz—Deputy Assistant Inspector General for Audit

John Buck—Deputy Assistant Inspector General for Audit

Robert Wuhrman—Deputy Assistant Inspector General for Technology

Kathy Saylor—Assistant Inspector General for Evaluation

Jeremy Kirkland—Counsel to the Inspector General

Department of the Interior

Phone Number: (202) 208-5745

CIGIE Liaison—Joann Gauzza (202) 208-5745

Steve Hardgrove—Chief of Staff

Bernard Mazer—Senior Policy Advisor

Kimberly Elmore—Assistant Inspector General for Audits, Inspections and Evaluations

Matt Elliott—Assistant Inspector General for Investigations

Bruce Delaplaine—General Counsel

Roderick Anderson—Assistant Inspector General for Management

Department of Justice

Phone Number: (202) 514-3435

CIGIE Liaison—Jay Lerner (202) 514-3435

Robert P. Storch—Deputy Inspector General

William M. Blier—General Counsel

Jason R. Malmstrom—Assistant Inspector General for Audit

Gregory T. Peters—Assistant Inspector General for Management and Planning

Nina S. Pelletier—Assistant Inspector Generator Evaluation and Inspections

Daniel C. Beckhard—Deputy Assistant Inspector General for Oversight and Review

Eric A. Johnson—Assistant Inspector General for Investigations

Mark L. Hayes—Deputy Assistant Inspector General for Audit

Department of Labor

Phone Number: (202) 693-5100

CIGIE Liaison—Luiz Santos (202) 693-7062

Larry D. Turner—Deputy Inspector General

Howard Shapiro—Counsel to the Inspector General

Elliot P. Lewis—Assistant Inspector General for Audit

Debra D. Pettitt—Deputy Assistant Inspector General for Audit

Lester Fernandez—Assistant Inspector General for Labor Racketeering and Fraud Investigations

Richard S. Clark II—Deputy Assistant Inspector General for Labor Racketeering and Fraud Investigations

Thomas D. Williams—Assistant Inspector General for Management and Policy

National Aeronautics and Space Administration

Phone Number: (202) 358-1220

CIGIE Liaison—Renee Juhans (202) 358-1712

Gail Robinson—Deputy Inspector General

Frank LaRocca—Counsel to the Inspector General

James Ives—Assistant Inspector General for Investigations

James Morrison—Assistant Inspector General for Audits

National Endowment for the Arts

Phone Number: (202) 682-5774

CIGIE Liaison—Tonie Jones (202) 682-5402

Tonic Jones—Inspector General

National Science Foundation

Phone Number: (703) 292-7100

CIGIE Liaison—Susan Carnohan (703) 292-5011 and Maury Pully (703) 292-5059

Brett M. Baker—Assistant Inspector General for Audit

Alan Boehm—Assistant Inspector General for Investigations

Kenneth Chason—Counsel to the Inspector General

National Security Agency

Phone Number: (301) 688-6666

CIGIE Liaison—Janet Greer (443) 479-3921

Bob Jones— Asst. Inspector General for Intelligence Oversight

Brad Siersdorfer—Asst. Inspector General for Field Inspections

Jim Protin—Asst. Inspector General for Investigations

Steve Ryan—Asst. Inspector General for Audits

Nuclear Regulatory Commission

Phone Number: (301) 415-5930

CIGIE Liaison—Deborah S. Huber (301) 415-5930

David C. Lee—Deputy Inspector General

Stephen D. Dingbaum—Assistant Inspector General for Audits

Joseph A. McMillan—Assistant Inspector General for Investigations

Office of Personnel Management

Phone Number: (202) 606-1200

CIGIE Liaison—Joyce D. Price (202) 606-2156

Norbert E. Vint—Deputy Inspector General

Terri Fazio—Assistant Inspector General for Management

J. David Cope—Assistant Inspector General for Legal Affairs

Michelle B. Schmitz—Assistant Inspector General for Investigations

Kimberly A. Howell—Deputy Assistant Inspector General for Investigations

Michael R. Esser—Assistant Inspector General for Audits

Melissa D. Brown—Deputy Assistant Inspector General for Audits

Lewis F. Parker—Deputy Assistant Inspector General for Audits

Gopala Seelamneni—Chief Information Technology Officer

Peace Corps

Phone Number: (202) 692-2900

CIGIE Liaison—Joaquin Ferrao (202) 692-2921

Kathy Buller—Inspector General (Foreign Service)

United States Postal Service

Phone Number: (703) 248-2100

CIGIE Liaison—Agapi Doulaveris (703) 248-2286

Elizabeth Martin—General Counsel

Gladis Griffith—Deputy General Counsel

Mark Duda—Assistant Inspector General for Audits

Railroad Retirement Board

Phone Number: (312) 751-4690

CIGIE Liaison—Jill Roellig (312) 751-4993

Patricia A. Marshall—Counsel to the Inspector General

Heather Dunahoo—Assistant Inspector General for Audit

Louis Rossignuolo—Assistant Inspector General for Investigations

Small Business Administration

Phone Number: (202) 205-6586

CIGIE Liaison—Robert F. Fisher (202) 205-6583 and Sheldon R. Shoemaker (202) 205-0080

Troy M. Meyer—Assistant Inspector General for Auditing

Mark P. Hines—Assistant Inspector General for Investigations

Robert F. Fisher—Assistant Inspector General for Management and Administration

Social Security Administration

Phone Number: (410) 966-8385

CIGIE Liaison—Kristin Klima (202) 358-6319

Rona Lawson—Deputy Assistant Inspector General for Audit

Joseph Gangloff—Counsel to the Inspector General

Michael Robinson—Assistant Inspector General for Investigations

Kelly Bloyer—Assistant Inspector General for Communications and Resource Management

Special Inspector General for Troubled Asset Relief Program

Phone Number: (202) 622-1419

CIGIE Liaison—B. Chad Bungard (202) 927-8938

Peggy Ellen—Deputy Special Inspector General

Charles (Chris) Gregorski—Deputy Special Inspector General, Investigations

B. Chad Bungard—General Counsel

Bruce Gimbel—Deputy Special Inspector General, Audit and Evaluations

Department of State and the Broadcasting Board of Governors

Phone Number: (202) 663-0340

CIGIE Liaison—Nicole Lowery (703) 284-1828

Emilia DiSanto—Deputy Inspector General

Harrison Ford—Deputy General Counsel

Norman P. Brown—Assistant Inspector General for Audits

Geoffrey A. Cherrington—Assistant Inspector General for Investigations

Karen J. Ouzts—Assistant Inspector General for Management

Jennifer L. Costello—Assistant Inspector General for Evaluations and Special Projects

Gayle Voshell—Deputy Assistant Inspector General for Audits

Tinh T. Nguyen—Deputy Assistant Inspector General for Middle East Region Operations

Michael Ryan—Deputy Assistant Inspector General for Investigations

Cathy D. Alix—Deputy Assistant Inspector General for Management

Department of Transportation

Phone Number: (202) 366-1959

CIGIE Liaison—Nathan P. Richmond: (202) 493-0422

Ann M. Calvaresi Barr—Deputy Inspector General

Brian A. Dettelbach—Assistant Inspector General for Legal, Legislative, and External Affairs

Eileen Ennis—Assistant Inspector General for Administration

Michelle T. McVicker—Principal Assistant Inspector General for Investigations

Lou E. Dixon—Principal Assistant Inspector General for Auditing and Evaluation

Joseph W. Come—Deputy Principal Assistant Inspector General for Auditing and Evaluation

Matthew E. Hampton—Assistant Inspector General for Aviation Audits

Charles A. Ward—Assistant Inspector General for Aviation Audits

Louis C. King—Assistant Inspector General for Financial and Information Technology Audits

Mitchell L. Behm—Assistant Inspector General for Surface Transportation Audits

Mary Kay Langan-Feirson—Assistant Inspector General for Acquisition and Procurement Audits

Department of the Treasury

Phone Number: (202) 622-1090

CIGIE Liaison—Susan G. Marshall (202) 927-9842

Richard K. Delmar—Counsel to the Inspector General

Tricia L. Hollis—Assistant Inspector General for Management

Marla A. Freedman—Assistant Inspector General for Audit

Robert A. Taylor—Deputy Assistant Inspector General for Audit (Program Audits)

John L. Phillips—Assistant Inspector General for Investigations

Donna F. Joseph—Assistant Inspector General for Financial Management, Information Technology, and Financial Assistance Audit

Treasury Inspector General for Tax Administration/Department of the Treasury

Phone Number: (202) 622-6500

CIGIE Liaison—Michael Raschiatore (202) 927-0172

Michael A. Phillips—Acting Principal Deputy Inspector General

Timothy Camus—Deputy Inspector General for Investigations

Michael McKenney—Deputy Inspector General for Audit

Michael Delgado—Assistant Inspector General for Investigations

Russell Martin—Assistant Inspector General for Audit (Returns Processing and Account Services)

Greg Kutz—Acting Deputy Inspector General for Inspections and Evaluations/Assistant Inspector General for Audit (Management Services and Exempt Organizations)

Matthew Weir—Assistant Inspector General for Audit (Compliance and Enforcement Operations)

Gayle Hatheway—Deputy Assistant Inspector General for Investigations

James Jackson—Deputy Assistant Inspector General for Investigations

Randy Silvis—Deputy Assistant Inspector General for Investigations

Gladys Hernandez—Chief Counsel

George Jakabcin—Chief Information Officer

Department of Veterans Affairs

Phone Number: (202) 461-4720

CIGIE Liaison—Joanne Moffett (202) 461-4720

Maureen T. Regan—Counselor to the Inspector General

Quentin G. Aucoin—Assistant Inspector General for Investigations

Gary K. Abe—Deputy Assistant Inspector General for Audits and Evaluations (Field Operations)

Dana Moore—Assistant Inspector General for Management and Administration

Jason R. Woodward—Deputy Assistant Inspector General for Management and Administration

John D. Daigh—Assistant Inspector General for Healthcare Inspections

Claire McDonald—Deputy Assistant Inspector General for Healthcare Inspections

Dated: August 21, 2015.
Mark D. Jones,
Executive Director.

[FR Doc. 2015-21406 Filed 9-1-15; 8:45 am]

BILLING CODE 6820-C9-P